DEPARTMENT OF COMMERCE

National Oceanic and Atmospheric Administration

RIN 0648-XA142

Endangered and Threatened Species; Take of Anadromous Fish

AGENCY: National Marine Fisheries Service (NMFS), National Oceanic and Atmospheric Administration (NOAA), Commerce.

ACTION: Application for a scientific research permit.

SUMMARY: Notice is hereby given that NMFS has received a scientific research permit application request relating to salmonids listed under the Endangered Species Act (ESA). The proposed research is intended to increase knowledge of the species and to help guide management and conservation efforts.

DATES: Written comments on the permit application must be received at the appropriate address or fax number (see ADDRESSES) no later than 5 p.m. Pacific standard time on March 17, 2011.

ADDRESSES: Written comments on this application should be submitted to the Protected Resources Division, NMFS, 777 Sonoma Avenue, Room 325, Santa Rosa, CA 95404. Comments may also be submitted via fax to (707) 578-3435 or by e-mail to FRNpermits.SR@noaa.gov. The applications and related documents may be viewed online at: https://apps.nmfs.noaa.gov/preview/preview_open_for_comment.cfm. These documents are also available upon written request or by appointment by contacting NMFS by phone (707) 575-6097 or fax (707) 578-3435.

FOR FURTHER INFORMATION CONTACT: Jeffrey Jahn, Santa Rosa, CA (ph.: 707-575-6097, e-mail: Jeffrey.Jahn@noaa.gov).

SUPPLEMENTARY INFORMATION:

Species Covered in This Notice

This notice is relevant to federally threatened California Coastal Chinook salmon (Oncorhynchus tshawytscha), endangered Central California Coast coho salmon (O. kisutch), and threatened Central California Coast steelhead (O. mykiss).

Authority

Scientific research permits are issued in accordance with section 10(a)(1)(A) of the ESA of 1973 (16 U.S.C. 1531-1543) and regulations governing listed fish and wildlife permits (50 CFR parts 222-226). NMFS issues permits based on findings that such permits: (1) Are applied for in good faith; (2) if granted and exercised, would not operate to the disadvantage of the listed species which are the subject of the permits; and (3) are consistent with the purposes and policies set forth in section 2 of the ESA. The authority to take listed species is subject to conditions set forth in the permits.

Anyone requesting a hearing on the application listed in this notice should set out the specific reasons why a hearing on that application would be appropriate (see ADDRESSES). Such hearings are held at the discretion of the Assistant Administrator for Fisheries, NMFS.

Application Received

Permit 14419

The Sonoma County Water Agency (SCWA) is requesting a 10-year scientific research permit to take adult and juvenile California Coastal(CC) Chinook salmon, adult and juvenile Central California Coast (CCC) coho salmon, and adult and juvenile CCC steelhead associated with five research projects in the Russian River watershed in in central California. The goal is to detect and depict trends in ESA-listed salmonid populations in the Russian River watershed and to monitor the results of salmonid habitat enhancement efforts in this watershed. Many of the proposed research and monitoring activities are associated with the Reasonable and Prudent Alternative within a NMFS Biological Opinion issued to the Corps of Engineers and SCWA on September 24, 2008, under section 7 of the ESA. Some of the take associated with capture and handling of fish is already covered under the Incidental Take Statement associated with the Biological Opinion.

Methods employed to accomplish research objectives will consist of downstream-migrant trapping (rotary screw traps, fyke nets, and pipe/funnel nets), electrofishing (backpack and boat), beach seining, fin-clipping, scale sampling, passive integrated transponder (PIT) tagging, acoustic/radio telemetry, otolith extraction, and anesthetizing and handling fish to obtain length and weight data. In the five studies described below, researchers will ensure that all sampling activities minimize the risk of injury to fish though a small number of ESA-listed salmonids may die as an unintended result of the research activities. In one study, a small number of threatened ESA-listed salmonids will be sacrificed for otolith removal and michrochemical analysis.

Study 1 will document the abundance and timing of young of the year (YOY) and juvenile steelhead emigrating from lower-river tributaries into the lower mainstem Russian River and/or estuary. This study will identify the relative contribution of YOY salmonids from tributaries to overall populations of salmonids entering the estuary and estimate the relative abundance of steelhead smolts produced from each tributary.

The SCWA proposes to capture and tag juvenile CCC steelhead using downstream migrant traps in tributaries to the Russian River and near the upstream boundary of the Russian River estuary. A portion of the captured juvenile steelhead will be anesthetized for collection of size data; a subset of individuals will be PIT tagged and scale sampled. All other captured salmonids will be released immediately downstream from the trap. At each site, the SCWA will estimate trapping and detection efficiency by fin-clipping a portion of captured salmonids, releasing them upstream of the trap, and then estimating the number of migrating fin-clipped fish by collecting recapture data at traps, by monitoring migrating fish via a video system and/or by analyzing scale growth patterns.

The SCWA implements habitat enhancement projects throughout the Russian River watershed and seeks to understand the relationship between these projects and CCC steelhead abundance. Study 2 will depict patterns in the relative annual abundance of CCC steelhead and changes in fish communities in the mainstream Russian River and selected tributaries. This study will compare recruitment of steelhead in stream reaches where habitat enhancements have been implemented with reaches without enhancements.

In Study 2, the SCWA proposes to capture, anesthetize, and scale sample a maximum of 30 juvenile CCC steelhead individuals from two size classes in multiple reaches of the mainstem Russian River and 16 tributaries. All remaining steelhead individuals will not be scale sampled but will be enumerated, categorized by size class, and released. Fish in tributaries will be observed by snorkeling and/or captured by backpack electrofishing. Fish in the mainstem Russian River may be captured by backpack or boat electrofishing and/or snorkeling. Data obtained will include abundance estimates and size ranges.

The Biological Opinion requires that the SCWA sample diets of juvenile steelhead in the Russian River estuary. In Study 3, the SCWA is proposing to expand this task in scope by assessing the diets of juvenile salmonids across broad habitat types (tributaries, mainstem and estuary) in the Russian River watershed and increasing the target species. The salmonid life stages and species targeted are Chinook salmon smolt, coho salmon juvenile and smolt, and juvenile steelhead. Data could indicate the value of continued implementation of habitat enhancement projects by showing that these efforts increase food availability and associated somatic growth of juvenile salmonids.

In Study 3, data will be collected from fish that have been captured through other studies as described in this research proposal. The diets of juvenile ESA-listed salmonids will be sampled using gastric lavage, a standard technique for fish dietary analyses that uses water to flush the stomach contents out through the esophagus. Fish will be anesthetized prior to the stomach lavage and will not be released until they make a full recovery.

Project 4 utilizes otolith microchemistry, radio/acoustic telemetry, and PIT tags to define the relative role of freshwater, estuarine, and marine habitats in structuring salmonid populations in the Russian River. The salmonid life stages and species targeted are CC Chinook salmon smolts, CCC coho salmon juveniles and smolts, and CCC steelhead juveniles and smolts. Metrics for salmonids will include: initial size in tributaries, entry time and size for mainstem Russian River and the estuary, and entry time for the marine environment. The data will be used to provide life cycle and habitat specific estimates of residence time, growth, and survival so that resource management agencies can better identify and prioritize key restoration options in the Russian River watershed.

SCWA researchers propose to collect otoliths and scales from adult carcasses and a small number of sacrificed juvenile CC Chinook salmon and CCC steelhead to determine fish ages, size at estuary and ocean entry, and differences in growth rates across habitat types. Researchers will collect adult carcasses during annual spawning surveys. Carcasses will be measured and sampled for otoliths and scales.

Additionally, in Study 4, the SCWA will use acoustic/radio telemetry to determine specific residence times and movements both within and across habitat types for CC Chinook smolts, CCC coho smolts, and CCC steelhead smolts. Individuals will be captured at downstream migrant traps and tagged with acoustic tags and PIT tags.

Study 5 will assess the impact of predators on juvenile salmonid survival in the Russian River mainstem between the Dry Creek confluence and the estuary. Backpack and boat electrofishing, hook and line sampling and otter trawling (in the estuary) will be utilized to capture native and non-native species inhabiting the river to understand the relative abundance of predatory species. Timing and gear will minimize capture of salmonids, if ESA-listed salmonids are captured they will be held in a live well with oxygenated water, measured and released. All adult piscivorous fish captured will be measured, scale sampled and will have their stomach contents removed and analyzed.

This notice is provided pursuant to section 10(c) of the ESA. NMFS will evaluate the application, associated documents, and comments submitted to determine whether the application meets the requirements of section 10(a) of the ESA and Federal regulations. The final permit decision will not be made until after the end of the 30-day comment period. NMFS will publish notice of its final action in the Federal Register.

Dated: February 9, 2011.
Therese Conant,
Acting Chief, Endangered Species Division, Office of Protected Resources, National Marine Fisheries Service.

[FR Doc. 2011-3399 Filed 2-14-11; 8:45 am]

BILLING CODE 3510-22-P